NATIONAL AERONAUTICS AND SPACE ADMINISTRATION

[Notice: 17-088]

National Space Council Users' Advisory Group; Establishment

AGENCY: National Aeronautics and Space Administration (NASA).

ACTION: Notice of establishment of the National Space Council Users' Advisory Group.

Pursuant to the NASA Authorization Act of 1991 (Pub. L. 101-611, Section 121), and Executive Order 13803 (“Reviving The National Space Council”), Section 6, signed by the President on June 30, 2017, NASA has established the National Space Council Users' Advisory Group (UAG). The UAG is a non-discretionary statutory Federal advisory committee under the Federal Advisory Committee Act (FACA) (Pub. L. 92-463, as amended). NASA is sponsoring and managing the operations of the UAG on behalf of the National Space Council, Executive Office of the President. This determination follows consultation with the Committee Management Secretariat of the U.S. General Services Administration.

Purpose: The purpose of the UAG is purely advisory and shall be to ensure that the interests of industry, other non-Federal entities, and other persons involved in aeronautics and space activities are adequately represented in the deliberations of the National Space Council. The National Space Council is an Executive Branch interagency coordinating committee chaired by the Vice President, which is tasked with advising and assisting the President regarding national space policy and strategy.

Membership: Members of the UAG will serve either as “Representatives” (representing industry, other non-Federal entities, and other recognizable groups of persons involved in aeronautical and space activities) or “Special Government Employees” (individual subject matter experts).

Duration: Pursuant to Section 12(b) of the NASA Authorization Act of 1991, the UAG is not subject to Section 14a(2) of FACA, and shall exist on an ongoing basis.

Responsible NASA Official: Dr. Jeff Waksman, Designated Federal Officer/Executive Secretary, NASA Headquarters, 300 E Street SW, Washington, DC 20546, phone: 202-358-3758 or email: jeff.l.waksman@nasa.gov.

FOR FURTHER INFORMATION CONTACT: Dr. Jeff Waksman, Designated Federal Officer/Executive Secretary, NASA Headquarters, 300 E Street SW, Washington, DC 20546, phone: 202-358-3758 or email: jeff.l.waksman@nasa.gov.

Patricia D. Rausch,
Advisory Committee Management Officer, National Aeronautics and Space Administration.

[FR Doc. 2017-26765 Filed 12-11-17; 8:45 am]

BILLING CODE 7510-13-P